DEPARTMENT OF ENERGY

Federal Energy Regulatory Commission

Combined Notice of Filings #1

Take notice that the Commission received the following electric corporate filings:

Docket Numbers: EC18-42-000.

Applicants: Public Service Company of New Hampshire, HSE Hydro NH AC, LLC.

Description: Application under Section 203(a)(1) of Public Service Company of New Hampshire, et al.

Filed Date: 12/28/17.

Accession Number: 20171228-5100.

Comments Due: 5 p.m. ET 1/18/18.

Take notice that the Commission received the following exempt wholesale generator filings:

Docket Numbers: EG18-25-000.

Applicants: Clean Energy Future-Lordstown, LLC.

Description: Notice of Self-Certification of Exempt Wholesale Generator Status of Clean Energy Future-Lordstown, LLC.

Filed Date: 12/28/17.

Accession Number: 20171228-5129.

Comments Due: 5 p.m. ET 1/18/18.

Take notice that the Commission received the following electric rate filings:

Docket Numbers: ER10-1338-002.

Applicants: Southern Indiana Gas and Electric Company, Inc.

Description: Triennial Market Based Rates Update in Central Region of Southern Indiana Gas and Electric Company, Inc.

Filed Date: 12/28/17.

Accession Number: 20171228-5212.

Comments Due: 5 p.m. ET 2/26/18.

Docket Numbers: ER10-2265-014; ER14-1818-014; ER10-2262-008; ER11-2062-023; ER11-2508-022; ER11-4307-023; ER12-261-022; ER10-1581-020; ER13-1791-009; ER13-1965-013; ER11-4308-023; ER11-2805-022.

Applicants: NRG Power Marketing LLC, Boston Energy Trading and Marketing LLC, El Segundo Power, LLC, Energy Plus Holdings LLC, GenOn Energy Management, LLC, Green Mountain Energy Company, Independence Energy Group LLC, Long Beach Peakers LLC, NRG Florida LP, NRG Wholesale Generation LP, Reliant Energy Northeast LLC, RRI Energy Services, LLC.

Description: Updated Market Power Analysis in the Southeast Region of the NRG MBR Sellers.

Filed Date: 12/28/17.

Accession Number: 20171228-5207.

Comments Due: 5 p.m. ET 2/26/18.

Docket Numbers: ER10-2819-005; ER14-413-003; ER10-2431-006; ER14-1390-004; ER10-2358-006; ER14-1397-004.

Applicants: ALLETE, Inc., ALLETE Clean Energy, Inc., Chanarambie Power Partners LLC, Lake Benton Power Partners LLC, Storm Lake Power Partners I LLC, Storm Lake Power Partners II, LLC.

Description: Triennial Market Power Analysis for Central Region of ALLETE, Inc., et al.

Filed Date: 12/28/17.

Accession Number: 20171228-5199.

Comments Due: 5 p.m. ET 2/26/18.

Docket Numbers: ER17-856-002.

Applicants: Rockland Electric Company, PJM Interconnection, L.L.C.

Description: Compliance filing: RECO submits compliance filing to 11/29/2017 order re: Settlement Offer to be effective 4/3/2017.

Filed Date: 12/28/17.

Accession Number: 20171228-5048.

Comments Due: 5 p.m. ET 1/18/18.

Docket Numbers: ER17-1198-000.

Applicants: Southwestern Electric Cooperative, Inc.

Description: Motion to Intervene and Formal Challenge of the Southwestern Electric Cooperative, Inc.

Filed Date: 4/17/17.

Accession Number: 20170417-5286.

Comments Due: 5 p.m. ET 1/12/18.

Docket Numbers: ER17-1562-000.

Applicants: Energy Unlimited, Inc.

Description: Report Filing: Energy Unlimited, Inc. Refund Report and Request for Privileged Treatment to be effective N/A.

Filed Date: 12/26/17.

Accession Number: 20171226-5078.

Comments Due: 5 p.m. ET 1/16/18.

Docket Numbers: ER17-1794-003.

Applicants: Innovative Solar 42, LLC.

Description: Compliance filing: Notice of Non-Material Change in Status and Revised MBR Tariff to be effective 12/29/2017.

Filed Date: 12/28/17.

Accession Number: 20171228-5218.

Comments Due: 5 p.m. ET 1/18/18.

Docket Numbers: ER18-551-000.

Applicants: Bucksport Mill LLC.

Description: Notice of Cancellation of Market-Based Rate Tariff of Bucksport Mill LLC.

Filed Date: 12/27/17.

Accession Number: 20171227-5162.

Comments Due: 5 p.m. ET 1/17/18.

Docket Numbers: ER18-552-000.

Applicants: Clean Energy Future-Lordstown, LLC.

Description: Baseline eTariff Filing: MBR Application to be effective 2/27/2018.

Filed Date: 12/28/17.

Accession Number: 20171228-5098.

Comments Due: 5 p.m. ET 1/18/18.

Docket Numbers: ER18-553-000.

Applicants: PJM Interconnection, L.L.C.

Description: § 205(d) Rate Filing: Second Revised Service Agreement No. 3753, Queue No. AB1-058 to be effective 11/29/2017.

Filed Date: 12/28/17.

Accession Number: 20171228-5211.

Comments Due: 5 p.m. ET 1/18/18.

Docket Numbers: ER18-554-000.

Applicants: Carville Energy LLC.

Description: § 205(d) Rate Filing: Reactive Service Rate Schedule Filing to be effective 3/1/2018.

Filed Date: 12/28/17.

Accession Number: 20171228-5217.

Comments Due: 5 p.m. ET 1/18/18.

Docket Numbers: ER18-555-000.

Applicants: Union Electric Company.

Description: Market-Based Triennial Review Filing: Union Electric Co. Triennial Market Power Filing to be effective 12/29/2017.

Filed Date: 12/28/17.

Accession Number: 20171228-5219.

Comments Due: 5 p.m. ET 2/26/18.

Docket Numbers: ER18-556-000.

Applicants: Ameren Illinois Company.

Description: Market-Based Triennial Review Filing: Ameren Illinois Company Triennial Market Power Filing to be effective 12/29/2017.

Filed Date: 12/28/17.

Accession Number: 20171228-5221.

Comments Due: 5 p.m. ET 2/26/18.

Docket Numbers: ER18-557-000.

Applicants: Midcontinent Independent System Operator, Inc.

Description: § 205(d) Rate Filing: 2017-12-29_SA 3079 Dakota Range I-OTP-MDU GIA (J436) to be effective 12/15/2017.

Filed Date: 12/28/17.

Accession Number: 20171228-5244.

Comments Due: 5 p.m. ET 1/18/18.

Docket Numbers: ER18-558-000.

Applicants: GridLiance West Transco LLC.

Description: § 205(d) Rate Filing: TRBA for HVTS sold to GridLiance to be effective 1/1/2018.

Filed Date: 12/28/17.

Accession Number: 20171228-5248.

Comments Due: 5 p.m. ET 1/18/18.

Docket Numbers: ER18-559-000.

Applicants: Midcontinent Independent System Operator, Inc.

Description: § 205(d) Rate Filing: 2017-12-28_SA 3078 Dakota Range II-OTP-MDU GIA (J437) to be effective 12/15/2017.

Filed Date: 12/28/17.

Accession Number: 20171228-5249.

Comments Due: 5 p.m. ET 1/18/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2017.
Nathaniel J. Davis, Sr.,
Deputy Secretary.

[FR Doc. 2017-28468 Filed 1-3-18; 8:45 am]

BILLING CODE 6717-01-P